DEPARTMENT OF TRANSPORTATION

Federal Aviation Administration

14 CFR Part 71

[Docket No. FAA-2020-0164; Airspace Docket No. 20-ASO-3]

RIN 2120-AA66

Amendment of Class D Airspace and Revocation of Class E Airspace; Bogue, NC

AGENCY: Federal Aviation Administration (FAA), DOT.

ACTION: Final rule.

SUMMARY: This action amends Class D airspace by updating the geographic coordinates, and removes Class E airspace extending upward from 700 feet above the surface at Bogue Field Marine Corps Auxiliary Field, Bogue, NC, at the request of the US Marine Corps. Class E airspace is no longer required, as there are no instrument approaches into Bogue Field MCALF. This action also replaces the outdated term Airport/Facility Directory with the term Chart Supplement in the legal description of associated Class D airspace. This action enhances the safety and management of controlled airspace within the national airspace system.

DATES: Effective 0901 UTC, September 10, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed on line at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION, CONTACT: John Fornito, Operations Support Group, Eastern Service Center, Federal Aviation Administration, 1701 Columbia Avenue, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D airspace and removes Class E airspace extending upward from 700 feet above the surface at Bogue Field MCALF, Bogue, NC, due to the airspace no longer being necessary.

History

The FAA published a notice of proposed rulemaking in the Federal Register (85 FR 14809, March 16, 2020) for Docket No. FAA-2020-0164 to amend Class D airspace by updating the geographic coordinates, and remove Class E airspace extending upward from 700 feet above the surface at Bogue Field Marine Corps Auxiliary Field, Bogue, NC as the airport has no instrument approaches. Therefore, the Class E airspace is no longer necessary. This action enhances the safety and management of controlled airspace within the national airspace system.

Interested parties were invited to participate in this rulemaking effort by submitting written comments on the proposal to the FAA. No negative comments were received.

Class D and Class E airspace designations are published in Paragraphs 5000 and 6005, respectively, of FAA Order 7400.11D, dated August 8, 2019, and effective September 15, 2019, which is incorporated by reference in 14 CFR part 71.1. The Class E airspace designation listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The amendment to Title 14 Code of Federal Regulations (14 CFR) part 71 amends Class D airspace at Bogue Field Marine Corps Auxiliary Field, Bogue, NC, by updating the geographic coordinates, and removes Class E airspace extending upward from 700 feet above the surface at Bogue Field Marine Corps Auxiliary Field, Bogue, NC as the airport has no instrument approaches. This action enhances the safety and management of controlled airspace within the national airspace system. This action also replaces the outdated term Airport/Facility Directory with the term Chart Supplement in the legal description of associated Class D airspace.

These changes are necessary for continued safety and management of IFR operations at this airport.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71 —DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, effective September 15, 2019, is amended as follows:

Paragraph 5000 Class D Airspace.

* * * * *

ASO NC D Bogue, NC [Amended]

Bogue Field MCALF, NC

(Lat. 34°41′24″ N, long. 77°01′45″ W)

That airspace extending upward from the surface to and including 2,500 feet MSL within a 4.5-mile radius of Bogue Field MCALF. This Class D airspace area is effective during the specific dates and times established in advance by a Notice to Airmen. The effective date and time will thereafter be continuously published in the Chart Supplement.

Paragraph 6005 Class E Airspace Areas Extending Upward From 700 Feet or More Above the Surface of the Earth.

* * * * *

ASO NC E5 Bogue, NC [Removed]

Issued in College Park, Georgia, on June 24, 2020.
Andreese C. Davis,
Manager, Airspace & Procedures Team South, Eastern Service Center, Air Traffic Organization.

[FR Doc. 2020-13994 Filed 6-29-20; 8:45 am]

BILLING CODE 4910-13-P